DEPARTMENT OF TRANSPORTATION

Federal Aviation Administration

14 CFR Part 21

[Docket No. FAA-2019-0280]

Proposed Primary Category Design Standards; Cub Crafters, Inc., Model CC21-180 Airplane

AGENCY: Federal Aviation Administration (FAA), DOT.

ACTION: Notice of availability; request for comments.

SUMMARY: This document announces the existence of and requests comments on the proposed airworthiness design standards for acceptance for the type certification of the Cub Crafters, Inc., Model CC21-180 airplane under the regulations for primary category aircraft.

DATES: Comments must be received on or before May 17, 2019.

ADDRESSES: Send comments identified by docket number FAA-2019-0280 using any of the following methods:

• Federal eRegulations Portal: Go to http://www.regulations.gov and follow the online instructions for sending your comments electronically.

• Mail: Send comments to Docket Operations, M-30, U.S. Department of Transportation (DOT), 1200 New Jersey Avenue SE, Room W12-140, West Building Ground Floor, Washington, DC 20590-0001.

• Hand Delivery of Courier: Take comments to Docket Operations in Room W12-140 of the West Building Ground Floor at 1200 New Jersey Avenue SE, Washington, DC, between 9 a.m., and 5 p.m., Monday through Friday, except Federal holidays.

• Fax: Fax comments to Docket Operations at 202-493-2251.

Privacy: The FAA will post all comments it receives, without change, to http://regulations.gov, including any personal information the commenter provides. Using the search function of the docket website, anyone can find and read the electronic form of all comments received into any FAA docket, including the name of the individual sending the comment (or signing the comment for an association, business, labor union, etc.). DOT's complete Privacy Act Statement can be found in the Federal Register published on April 11, 2000 (65 FR 19477-19478), as well as at http://DocketsInfo.dot.gov.

Docket: Background documents or comments received may be read at http://www.regulations.gov at any time. Follow the online instructions for accessing the docket or go to the Docket Operations in Room W12-140 of the West Building Ground Floor at 1200 New Jersey Avenue SE, Washington, DC, between 9 a.m., and 5 p.m., Monday through Friday, except Federal holidays.

FOR FURTHER INFORMATION CONTACT: Mr. Raymond N. Johnston, AIR-692, Federal Aviation Administration, Policy & Innovation Division, Small Airplane Standards Branch, 901 Locust, Room 301, Kansas City, MO 64106, telephone (816) 329-4159, FAX (816) 329-4090, email raymond.johnston@faa.gov.

SUPPLEMENTARY INFORMATION: Any person may obtain a copy of this information by contacting the person named above under FOR FURTHER INFORMATION CONTACT.

Comments Invited

We invite interested people to take part in this rulemaking by sending written comments, data, or views. The most helpful comments reference a specific portion of the design criteria, explain the reason for any recommended change, and include supporting data. We ask that you send us two copies of written comments.

We will consider all comments received on or before the closing date for comments. We will consider comments filed late if it is possible to do so without incurring expense or delay. We may change these airworthiness design criteria based on received comments.

Background

The “primary” category for aircraft was created specifically for the simple, low performance personal aircraft. Section 21.17, Designation of applicable regulations, paragraph (f) provides a means for the FAA to determine appropriate airworthiness standards for the particular primary category aircraft. The FAA procedure establishing appropriate airworthiness standards includes reviewing and possibly revising an applicant's proposal, publication of the submittal in the Federal Register for public review and comment, and addressing the comments. After all necessary revisions, the standards are published as approved FAA airworthiness standards.

Accordingly, Cub Crafters, Inc., has submitted these proposed airworthiness standards for the Model CC21-180 airplane under § 21.17(f).

Proposed Airworthiness Standards for Acceptance Under the Primary Category Rule

This document prescribes airworthiness standards for the issuance of a type certification for the Cub Crafters, Inc., Model CC21-180, a primary category airplane. These proposed airworthiness standards have a long safe service history in similar airplanes; therefore, they provide an appropriate level of safety. The proposed airworthiness standards are based on standards that were used to certify the same design as a normal and utility category airplane, Cub Crafters CC19-180, in accordance with FAA Type Certiciate A00053SE.

For the Airplane

Title 14, Code of Federal Regulations (14 CFR) part 23, effective December 18, 1964, as amended by 23-1 through 23-62, all sections except § 23.562 Emergency Landing Dynamic Conditions, and as modified by the following:

Equivalent Level of Safety (ELOS) No. TC10279SE-A-C-1 for the emergency exit requirements of § 23.807 ¹

¹ See http://rgl.faa.gov/Regulatory_and_Guidance_Library/rgELOS.nsf/0/F3FC2C42E551237F86257FC60046467D?OpenDocument&Highlight=tc10279se-a-c-1.

ELOS No. AT12936SE-A-S-1 for the electronic display instrument system requirements of § 23.1311 ²

² See http://rgl.faa.gov/Regulatory_and_Guidance_Library/rgELOS.nsf/0/E441A4F21736F7E98625814500674B2A?OpenDocument.

ELOS No. TC10279SE-A-G-9 for corrections to technical errors in amendment 23-62 ³

³ See http://rgl.faa.gov/Regulatory_and_Guidance_Library/rgELOS.nsf/0/773696FE2DDEA61D86257FF50065B4B6?OpenDocument.

ELOS No. AT12949SE-A-F-1 for the longitudinal trim requirements of § 23.161 ⁴

⁴ See http://rgl.faa.gov/Regulatory_and_Guidance_Library/rgELOS.nsf/0/0D9E358153C4CF028625825D005E5D15?OpenDocument.

For Noise Standards

14 CFR part 36 as amended by 36-1 through 36-30, appendix G.

Issued in Kansas City, Missouri, on April 8, 2019.
Pat Mullen,
Manager, Small Airplane Standards Branch, Aircraft Certification Service.

[FR Doc. 2019-07592 Filed 4-16-19; 8:45 am]

BILLING CODE 4910-13-P